DEPARTMENT OF TRANSPORTATION

Office of the Secretary

[OST Docket No. DOT-OST-2011-0022]

Notice of Submission of Proposed Information Collection to OMB Agency Request for Revision of a Previously Approved Collection: Online Complaint Form for Service-Related Issues in Air Transportation

AGENCY: Office of the Secretary, Department of Transportation.

ACTION: Notice and request for comments. Revision of information related to an active OMB control number.

SUMMARY: In accordance with the Paperwork Reduction Act of 1995, as amended, this notice announces the Department of Transportation's intention to revise information related to an OMB control number for an online complaint form by which a consumer can electronically submit a service-related complaint against an airline and other air travel-related companies.

DATES: Comments on this notice must be received by January 2, 2024.

ADDRESSES: To ensure that you do not duplicate your docket submissions, please submit them by only one of the following means:

• Federal eRulemaking Portal: Go to http://www.regulations.gov and follow the online instructions for submitting comments;

• Mail: Docket Management Facility, U.S. Department of Transportation, 1200 New Jersey Ave. SE, West Building Ground Floor, Room W-12/140, Washington, DC 20590-0001; or

• Hand delivery: West Building Ground Floor, Room W-12/140, 1200 New Jersey Ave. SE, between 9 a.m. and 5 p.m., Monday through Friday, except Federal holidays. The telephone number is 202-366-9329.

FOR FURTHER INFORMATION CONTACT: Daeleen Chesley, Office of the Secretary, Office of Aviation Consumer Protection (C-70), U.S. Department of Transportation, 1200 New Jersey Ave. SE, Washington, DC 20590, 202 366-6792 (voice) or at Daeleen.Chesley@dot.gov.

SUPPLEMENTARY INFORMATION:

OMB Control Number: 2105-0568.

Title: Revision of the Office of Aviation Consumer Protection's Online Air Travel Service Complaint/Comment Form.

Abstract: The Department of Transportation's (Department) Office of Aviation Consumer Protection (OACP) has broad authority under 49 U.S.C., subtitle VII, to investigate and enforce consumer protection and civil rights laws and regulations related to air transportation. OACP monitors compliance with and investigates violations of the Department of Transportation's aviation economic, consumer protection, and civil rights requirements.

Among other things, the office is responsible for receiving and investigating service-related consumer complaints filed against airlines and other air travel-related companies. Complaints submitted to OACP are reviewed by the office to determine the extent to which these entities comply with federal aviation consumer protection and civil rights laws and what, if any, action should be taken. OACP also receives general comments and inquiries from air consumers via the online form, but those are very few compared to the number of complaints filed by consumers on an annual basis. (See Tables 1 and 2, below).

This request is to revise the current information collection due to updates that OACP is making to the office's online air consumer complaint form as part of an Information Technology (IT) system modernization project.¹ The updated process continues to allow consumers to input information related to complaints about their flight experience, as well as to submit general inquiries/comments. However, air consumers submitting complaints or comments via the modernized system will be efficiently guided through their entry by a data input system using conditional logic. The modernized system includes additional information fields and, combined with the guided entry, will better ensure an individual air consumer's specific concerns are more comprehensively captured in the system database.

¹ OACP's legacy database is the Consumer Complaint Application System (CCA). OACP is updating its IT system and the modernized system will be known as the Aviation Complaint, Enforcement, and Reporting System (ACERS).

The modernized process will also streamline OACP's ability to review data and analyze complaints. The revised process will also reduce manual analyst processing steps. These improvements will increase the office's ability to effectively investigate individual complaints against airlines and other air travel-related companies. This consumer-driven submission process enhances the information collected and positively impacts OACP's ability to learn about patterns and practices that may develop in violation of aviation consumer protection requirements. The information collection continues to further the objectives of 49 U.S.C. 41712, 40101, 40127, 41702, and 41705 to protect consumers from unfair or deceptive practices, to protect the civil rights of air travelers, and to ensure safe and adequate service in air transportation.

The type of information requested on OACP's online form that is active and currently covered by the existing OMB Control number includes complainant's name, address, phone number (including area code), email address, and name of the airline or company about which she/he is complaining, as well as the flight date and flight itinerary (where applicable) of a complainant's trip. Air travel consumers use the current form for complaints (to provide narrative information regarding a specific air-travel related problem) or comments (to comment about or ask for air-travel related information from OACP).

The modernized intake process guides an aviation consumer through the following four steps: (1) Contact Information, (2) Flight Information, (3) Complaint Details, and (4) Complaint Review and Submission. Similar information is requested for comments. New/updated consumer-related information includes the country of residence, whether the trip involved a flight through the U.S. or a U.S. territory, certain booking information, and the passenger's arrival/departure airports. As currently drafted, the modernized online multi-step intake process allows consumers (via radio buttons) to include information about problems associated with the following main categories/subject areas:

(1) Flight Schedule Issues;

(2) Bumping or Oversales;

(3) Reservations/Ticketing/Boarding;

(4) Fees or Ticket Fares;

(5) Refunds;

(6) Baggage/Luggage;

(7) Customer Service;

(8) Disability Accommodations (including service animals);

(9) Advertising;

(10) Discrimination (not disability related);

(11) Animals/Pet (not service animals);

(12) Safety;

(13) Security;

(14) Inflight Sexual Misconduct; and

(15) Other Problems (e.g., frequent flyer miles, air ambulance).

Once a consumer chooses a category, the consumer is guided through a series of Yes/No questions that capture relevant information pertaining to the nature of the complaint. An air travel consumer can choose one or more complaint categories depending on the nature of his/her experience and has the option to include narrative information.

Both the currently active online air travel consumer complaint form and the modernized guided intake process include the ability for a consumer to upload documents relevant to the complaint/comment.

Filing a complaint using a web-based form is voluntary and minimizes the burden on respondents when compared with other methods of submitting complaints. In recent years, consumers have submitted most complaints online via their personal computer or on a mobile/electronic device. Approximately ninety-seven percent of the submissions received by OACP during calendar years (CYs) 2021 and 2022 were filed using the web-based form as shown in the table below.²

² As of CY 2020, OACP has received a higher number of online submissions than those submitted in prior CYs. For example, our CY17-19 average was 16,348 complaints submitted per year. In 2020, the total was 100,613 and were mostly related to flight cancellations and refund issues that resulted from the Covid-19 pandemic. In CYs 21 and 22, the number of submissions remain high but are lower than the number of complaints submitted in CY2020. See Table 1, above.

OACP has limited the request to information necessary to meet its aviation consumer protection monitoring and enforcement activities.

Table 1—Complaints Received by OACP
[CY21/22]
Calendar year | Total number of complaints filed on-line | Total number of complaints filed with OACP | % of on-line submissions
2021 | 48,465 | 49,958 | 97.01
2022 | 75,731 | 77,656 | 97.52
Average Total | 62,098 | 63,807 | 97.27

Table 2—Comments (Non-Complaints) Received by OACP
[CY21/22]
Calendar year | Total number information requests | Total number compliments | Total number opinions
2021 | 5,799 | 14 | 444
2022 | 7,575 | 24 | 1008
Average Total | 6,687 | 19 | 726
Total Yearly Average |  |  | 6,782

1. Air Travel Consumer Complaints Burden Calculations

Respondents: Consumers that Choose to File an Online Complaint with the Office of Aviation Consumer Protection.

Estimated Number of Respondents: 62,098 (based on averaging data from CYs 2021-22).

Estimated Total Burden on Respondents: 15,524.5 hours (931,470 minutes). The estimate was calculated by multiplying the average number of cases filed using the online form in CYs 21-22 (62,098) by the estimated time needed to fill out the online form (15 minutes).³

³ Feedback obtained during development of the modernized guided input process suggests that the form will take no longer than 15 minutes for a consumer to complete.

2. Comment (Non-Complaint) Burden Calculations

Respondents: Consumers that Choose to File an Online Comment with the Office of Aviation Consumer Protection.

Estimated Number of Respondents: 6,782 (based on averaging data from CYs 2021-22).

Estimated Total Burden on Respondents: 565.17 hours (33,910 minutes). The estimate was calculated by multiplying the average number of cases filed using the online form in CYs 21-22 (6,782) by the estimated time needed to fill out the online form (5 minutes).⁴

⁴ An air consumer submitting these types of filing generally provide less information, so we estimate 5 minutes is sufficient.

The information collection is available for inspection in regulations.gov, as noted in the Addresses section of this document.

Comments are Invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents.

All responses to this notice will be summarized and included in the request for OMB approval. All comments will also become a matter of public record on the docket.

Authority: The Paperwork Reduction Act of 1995; 44 U.S.C. chapter 35, as amended; and 49 CFR 1:48.

Issued in Washington, DC, on October 27, 2023.
Kimberly Graber,
Deputy Assistant General Counsel, Office of Aviation Consumer Protection.

[FR Doc. 2023-24128 Filed 10-31-23; 8:45 am]

BILLING CODE 4910-9X-P